DEPARTMENT OF ENERGY

Federal Energy Regulatory Commission

[Docket No. CP03-24-000]

Tennessee Gas Pipeline Company; Notice of Request Under Blanket Authorization

December 23, 2002.

Take notice that on December 11, 2002, Tennessee Gas Pipeline Company (Tennessee), 9 E. Greenway Plaza, Houston, Texas 77046, filed in Docket No. CP03-24-000 a request pursuant to sections 157.205 and 157.211(a)(2) of the Commission's Regulations under the Natural Gas Act (18 CFR 157.205, 157.211) for authorization to construct and operate a new delivery point, located in Hickman County, Tennessee, to serve an end-user, under Tennessee's blanket certificate issued in Docket No. CP82-413-000 pursuant to section 7(c) of the Natural Gas Act, all as more fully set forth in the request.

Tennessee requests authorization to construct and operate the facilities to serve the State of Tennessee Department of Corrections (State). Tennessee states that it would use the facilities to transport up to 353 Dth of natural gas per day under open-access transportation agreements. Tennessee estimates the cost of the proposed facilities to be $53,800 which would be reimbursed by the State. Tennessee states further that the proposal would have no significant effect on Tennessee's peak day and annual deliveries, and service to State through the new delivery point would be accomplished without detriment to Tennessee's other existing customers.

Tennessee indicates that it will comply with all of the environmental requirements of section 157.206(b) of the Commission's Regulations prior to the construction of the new point of delivery.

Any questions regarding the application should be directed to Jay V. Allen, 9 E Greenway Plaza, Houston, Texas 77046, (832) 676-5589 or Thomas G. Joyce, Certificates Manager, at: (832) 676-3299.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: January 10, 2003.

Linwood A. Watson, Jr.,
Deputy Secretary.

[FR Doc. 02-32871 Filed 12-27-02; 8:45 am]

BILLING CODE 6717-01-P